DEPARTMENT OF COMMERCE

National Oceanic and Atmospheric Administration

[RTID 0648-XE978]

Endangered Species; File No. 29010

AGENCY: National Marine Fisheries Service (NMFS), National Oceanic and Atmospheric Administration (NOAA), Commerce.

ACTION: Notice; receipt of application.

SUMMARY: Notice is hereby given that the Caribbean Oceanic Restoration and Education Foundation (Responsible Party: Rebecca Gibbel, DVM), has applied in due form for a permit to take pillar coral (Dendrogyra cylindrus) for purposes of enhancement.

DATES: Written comments must be received on or before July 28, 2025.

ADDRESSES: The application and related documents are available for review by selecting “Records Open for Public Comment” from the “Features” box on the Applications and Permits for Protected Species home page, https://apps.nmfs.noaa.gov, and then selecting File No. 29010 from the list of available applications. These documents are also available upon written request via email to NMFS.Pr1Comments@noaa.gov.

Written comments on this application should be submitted via email to NMFS.Pr1Comments@noaa.gov. Please include File No. 29010 in the subject line of the email comment.

Those individuals requesting a public hearing should submit a written request via email to NMFS.Pr1Comments@noaa.gov. The request should set forth the specific reasons why a hearing on this application would be appropriate.

FOR FURTHER INFORMATION CONTACT: Erin Markin, Ph.D. or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to conduct response activities for pillar coral in the U.S. Virgin Islands (USVI). The objective of this project is to improve the survival of pillar coral by responding to incidents of damage or threats in the wild. Restoration practitioners would collect up to three colonies or parts of colonies annually. Colonies or fragments would be reattached or stabilized in the same location or at new locations within waters of the USVI. The permit is requested for 10 years.

Dated: June 24, 2025.
Shannon Bettridge,
Chief, Marine Mammal and Sea Turtle Conservation Division, Office of Protected Resources, National Marine Fisheries Service.

[FR Doc. 2025-11890 Filed 6-26-25; 8:45 am]

BILLING CODE 3510-22-P